DEPARTMENT OF TRANSPORTATION

Federal Aviation Administration

RTCA Special Committee 194; ATM Data Link Implementation

Pursuant to section 10(a)(2) of the Federal Advisory Committee Act (Pub. L. 92-463, 5 U.S.C., Appendix 2), notice is hereby given for Special Committee 194 meeting to be held September 11-14, 2000, starting at 9 a.m. The meeting will be held at RTCA, 1140 Connecticut Ave., NW, Suite 1020, Washington, DC 20036.

The agenda will include: September 11: (1) Working Group (WG)-2, Flight Operations and ATM Integration, (2) WG-3, Human Factors; September 12: (3) WG-2, Flight Operations and ATM Integration, (4) WG-3, Human Factors, (5) WG-4, Service Provider Interface, (6) WG-1, Data Link Ops Concept & Implementation Plan; September 13: (7) Working Groups 1, 3, and 4 continue; September 14: 9:00 a.m. Plenary Session: (8) Review Agenda; (9) Review/Approve Previous Meeting Summary; (10) Free Flight presentation (11) Working Group Reports; (12) Other Business; (13) Date and Location of Future Meetings; (14) Closing. Attendance is open to the interested public but limited to space availability. With the approval of the chairman, members of the public may present oral statements at the meeting. Persons wishing to present statements or obtain information should contact the RTCA Secretariat, 1140 Connecticut Avenue, NW., Suite 1020, Washington, DC 20036; (202) 833-9339 (phone); (202) 833-9434 (fax); or http://www.rtca.org (web site). Members of the public may present a written statement to the committee at any time.

Issued in Washington, DC, on August 22, 2000.
Janice L. Peters,
Designated Official.

[FR Doc. 00-22041 Filed 8-28-00; 8:45 am]

BILLING CODE 4910-13-M